DEPARTMENT OF DEFENSE

Department of the Air Force

[Docket ID: USAF-2020-HQ-0012]

Proposed Collection; Comment Request

AGENCY: Department of the Air Force, Department of Defense (DoD).

ACTION: Information collection notice.

SUMMARY: In compliance with the Paperwork Reduction Act of 1995, the 711 Human Performance Wing/United States Air Force School of Aerospace Medicine announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 15, 2021.

ADDRESSES: You may submit comments, identified by docket number and title, by any of the following methods:

• Federal eRulemaking Portal: http://www.regulations.gov. Follow the instructions for submitting comments.

• Mail: The DoD cannot receive written comments at this time due to the COVID-19 pandemic. Comments should be sent electronically to the docket listed above.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the United States Air Force School of Aerospace Medicine/FESP, ATTN: Rachael N. Martinez, 2510 North, 5th St., Building 840, Fairborn, OH 45324; 773.251.2451 or email at rachael.martinez.1@us.af.mil.

SUPPLEMENTARY INFORMATION: Title; Associated Form; and OMB Number: Air Force Embedded Care Access Interview Guide; OMB Control Number 0701-XXXX.

Needs and Uses: The information collection requirement is necessary to receive verbal feedback from U.S. Air Force embedded mental healthcare providers (who are contractors) on their experiences providing mental healthcare services to airmen within the unit. These interviews are part of a programmatic improvement study to examine the experiences of embedded mental healthcare providers as well as the airmen that they serve in order to improve delivery of care. The results of this short-term study will be used to shape line and medical leadership strategies geared toward improving embedded mental healthcare capabilities for airmen in tip-of-the-spear communities, as well as readiness and availability of airmen in these environments.

Affected Public: Individuals or households.

Annual Burden Hours: 15.

Number of Respondents: 30.

Responses per Respondent: 1.

Annual Responses: 30.

Average Burden per Response: 30 minutes.

Frequency: Annually.

Respondents are U.S. Air Force embedded mental healthcare providers (e.g., psychologists, social workers) who are embedded within units to provide on-the-spot consultation to airmen. Embedded mental healthcare providers are comprised of U.S. Air Force military members, civilians, and contractors. This Information Collection Notice is to speak with contractors, specifically, in an embedded mental healthcare role about the barriers and strategies encountered in their role.

Dated: January 7, 2021.
Aaron T. Siegel,
Alternate OSD Federal Register Liaison Officer, Department of Defense.

[FR Doc. 2021-00376 Filed 1-12-21; 8:45 am]

BILLING CODE 5001-06-P